DEPARTMENT OF HOMELAND SECURITY

Federal Emergency Management Agency

[Docket ID FEMA-2009-0001]

Agency Information Collection Activities: Proposed Collection; Comment Request, 1660-NEW; FEMA Preparedness Grants: Emergency Operations Center (EOC) Grant Program

AGENCY: Federal Emergency Management Agency, DHS.

ACTION: Notice; 60-day notice and request for comments; new information collection; OMB No. 1660-NEW; FEMA Preparedness Grants: Emergency Operations Center (EOC) Grant Program; FEMA Form 089-3, EOC Grant Program Investment Justification and Scoring Criteria; FEMA Form 089-18, Prioritization of Competitive Investment Justifications Template.

SUMMARY: The Federal Emergency Management Agency, as part of its continuing effort to reduce paperwork and respondent burden, invites the general public and other Federal agencies to take this opportunity to comment on a proposed new information collection. In accordance with the Paperwork Reduction Act of 1995, this Notice seeks comments concerning information collection activities required to administer the Emergency Operations Center (EOC) Grant Program.

DATES: Comments must be submitted on or before January 19, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Alex Mrazik, Program Analyst, Grant Programs Directorate, 202-786-9732 for additional information. You may contact the Records Management Branch for copies of the proposed collection of information at facsimile number (202) 646-3347 or e-mail address: FEMA-Information-Collections@dhs.gov.

SUPPLEMENTARY INFORMATION: The Emergency Operations Center (EOC) Grant Program is intended to improve emergency management and preparedness capabilities by supporting flexible, sustainable, secure, and interoperable EOCs with a focus on addressing identified deficiencies and needs. Fully capable emergency operations facilities at the State, territory, local and/or tribal levels are an essential element of a comprehensive national emergency management system and are necessary to ensure continuity of operations and continuity of government in major disasters caused by any hazard. Section 614 of the Robert T. Stafford Disaster Relief and Emergency Assistance Act (42 U.S.C. 5196c), as amended by Section 202, Title II of the Implementing Recommendations of the 9/11 Commission Act of 2007 (Pub. L. 110-053), states, “The Administrator of the Federal Emergency Management Agency may make grants to States under this title for equipping, upgrading, and constructing State and local emergency operations centers.”

Collection of Information

Title: FEMA Preparedness Grants: Emergency Operations Center (EOC) Grant Program.

Type of Information Collection: New information collection.

OMB Number: 1660-NEW.

Form Titles and Numbers: FEMA Form 089-3, EOC Grant Program Investment Justification and Scoring Criteria; FEMA Form 089-18, Prioritization of Competitive Investment Justifications Template.

Abstract: The Emergency Operations Center (EOC) Grant Program is intended to improve emergency management and preparedness capabilities by supporting flexible, sustainable, secure, and interoperable EOCs with a focus on addressing identified deficiencies and needs. Fully capable emergency operations facilities at the State, territory, local and/or tribal levels are an essential element of a comprehensive national emergency management system and are necessary to ensure continuity of operations and continuity of government in major disasters caused by any hazard. The information collection activity is the collection of financial and programmatic information from State, territory, local, tribal, and/or for-profit partners pertaining to grant and cooperative agreement awards that include application, program narrative statements, grant award, performance information, outlay reports, grant funding and property management, and closeout information. The information enables FEMA and any federal partners to evaluate applications and make award decisions, monitor ongoing performance and manage the flow of federal funds, and to appropriately close out grants or cooperative agreements.

Affected Public: State, Local or Tribal Government.

Estimated Total Annual Burden Hours: 5,908 Hours.

Type of respondent | Form name/form number | Number of respondents | Number of responses per respondent | Annual number of responses | Avg. burden per response (in hours) | Total annual burden (in hours) | Avg. hourly wage rate* | Total annual respondent cost
State, Local or Tribal Government | EOC Grant Program Investment Justification and Scoring Criteria, FEMA Form 089-3 | 700 | 1 | 700 | 8 | 5,600 | $37.80 | $211,680.00
State, Local or Tribal Government | Prioritization of Competitive Investment Justifications Template FEMA Form 089-18 | 56 | 1 | 56 | 5.5 | 308 | 32.20 | 9,917.60
Total EOC |  | 756 |  |  |  | 5,908 |  | 221,597.60

Estimated Cost: There is no annual reporting or recordkeeping costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27543 Filed 11-16-09; 8:45 am]

BILLING CODE 9111-78-P